DEPARTMENT OF THE INTERIOR

Fish and Wildlife Service

50 CFR Part 17

[FWS-R1-ES-2007-0004; MO 9221050083]

Endangered and Threatened Wildlife and Plants; 90-Day Finding on a Petition To List the Black-Footed Albatross (Phoebastria nigripes) as Threatened or Endangered

AGENCY: Fish and Wildlife Service, Interior.

ACTION: Notice of 90-day petition finding; reopening of the information solicitation period.

SUMMARY: We, the U.S. Fish and Wildlife Service (Service), announce the reopening of the public information solicitation period on our October 9, 2007, 90-day finding on a petition to list the black-footed albatross (Phoebastria nigripes) as threatened or endangered under the Endangered Species Act of 1973, as amended (Act). This action will provide all interested parties with an additional opportunity to submit information and materials on the status of the black-footed albatross. Information previously submitted need not be resubmitted as it has already been incorporated into the public record and will be fully considered in the 12-month finding.

DATES: We are reopening the public information solicitation period and request that we receive information on or before September 25, 2009.

ADDRESSES: You may submit information by one of the following methods:

• Federal eRulemaking Portal: http://www.regulations.gov. Follow the instructions for submitting comments.

• U.S. mail or hand-delivery: Public Comments Processing, Attn: [FWS-R1-ES-2007-0004], Division of Policy and Directives Management, U.S. Fish and Wildlife Service, 4401 N. Fairfax Drive, Suite 222, Arlington, VA 22203.

You should be aware that we will post all comments on http://www.regulations.gov. This generally means that we will post any personal information you provide us (see the Information Solicited section below for more information).

FOR FURTHER INFORMATION CONTACT: Gina Shultz, Deputy Field Supervisor, Pacific Islands Fish and Wildlife Office, 300 Ala Moana Boulevard, Box 50088, Room 3122, Honolulu, HI 96850 (telephone 808-792-9400; facsimile 808-792-9581). If you use a telecommunications device for the deaf (TDD), please call the Federal Information Relay Service at 800-877-8339.

SUPPLEMENTARY INFORMATION:

Information Solicited

We are soliciting information during this reopened information solicitation period on the status of the black-footed albatross. We published a 90-day finding on a petition to list the black-footed albatross as threatened or endangered in the Federal Register on October 9, 2007 (72 FR 57278). If you submitted information previously on the status of the black-footed albatross during the previous information solicitation period, please do not resubmit it. This information has been incorporated into the public record and will be fully considered in the preparation of the 12-month finding.

You may submit your information and materials concerning the 90-day finding by one of the methods listed in the ADDRESSES section. Please be aware that if you submit information via http://www.regulations.gov your entire submission—including any personal identifying information—will be posted on the Web site. If your submission is made via hardcopy that includes personal identifying information, you may request at the top of your document that we withhold this information from public review. However, we cannot guarantee that we will be able to do so. We will also post all hardcopy submissions on http://www.regulations.gov.

Information and materials we receive, as well as supporting documentation we used in preparing the 90-day finding for the black-footed albatross, will be available for public inspection on http://www.regulations.gov, or by appointment, during normal business hours, at the Service's Pacific Islands Fish and Wildlife Office (see FOR FURTHER INFORMATION CONTACT, above).

Background

On October 9, 2007, we published a 90-day finding on a petition to list the black-footed albatross as threatened or endangered (72 FR 57278). In that 90-day finding, we found that the petition presented substantial scientific or commercial information indicating that listing the black-footed albatross may be warranted. We also initiated a status review to determine if listing the species is warranted, and announced a 60-day public information solicitation period on the petition finding and status review, which ended on December 10, 2007.

We received two requests for an extension of the information solicitation period in order to allow agencies and interested persons the opportunity to provide additional information for our consideration during this status review. In particular, these requests were based on the anticipated publication of a formal status assessment of the black-footed (and Laysan) albatross by the U.S. Geological Survey, Biological Resources Discipline (USGS-BRD). This status assessment is now available to the public for review (http://pubs.usgs.gov/sir/2009/5131/). The USGS-BRD Status Assessment of Laysan and Black-footed Albatrosses provides a synthesis and review of all existing data and other information about the species, including an assessment of fishery-related mortality and statistical models of the population status and trajectory. This assessment, along with other information provided by the public and reviewers on the 90-day petition finding, will be an important source of information for the status review and 12-month finding on the black-footed albatross.

It is important to note that the standard for “substantial information” indicating that the petitioned action may be warranted for a 90-day finding is in contrast to the 12-month finding that determines whether a petitioned action is warranted. A 90-day finding is not a status assessment of the species and does not constitute a status review under the Act. Our final determination as to whether a petitioned action is warranted is not made until we have completed a thorough status review of the species, which is conducted following a positive 90-day finding. Because the Act's standards for 90-day and 12-month findings are different, as described above, a positive 90-day finding does not mean that the 12-month finding also will be positive.

Authority

The authority for this action is the Endangered Species Act of 1973, as amended (16 U.S.C. 1531 et seq.).

Dated: August 17, 2009.
Dan Ashe,
Acting Director, U.S. Fish and Wildlife Service.

[FR Doc. E9-20604 Filed 8-25-09; 8:45 am]

BILLING CODE 4310-55-P